INTERNATIONAL TRADE COMMISSION

[Inv. No. 337-TA-441]

Certain Field Programmable Gate Arrays and Products Containing Same; Notice of Commission Decision Not To Review an Initial Determination Terminating the Investigation on the Basis of a Settlement Agreement

AGENCY: U.S. International Trade Commission.

ACTION: Notice.

SUMMARY: Notice is hereby given that the U.S. International Trade Commission has determined not to review the presiding administrative law judge's (“ALJ's”) initial determination (“ID”) terminating the investigation in its entirety based on a settlement agreement.

FOR FURTHER INFORMATION CONTACT: Clara Kuehn, Esq., Office of the General Counsel, U.S. International Trade Commission, 500 E Street, SW., Washington, DC 20436, telephone (202) 205-3012. Hearing-impaired persons are advised that information on this matter can be obtained by contacting the Commission's TDD terminal on 202-205-1810. General information concerning the Commission may also be obtained by accessing its Internet server (http://www.usitc.gov). Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000.

SUPPLEMENTARY INFORMATION: The Commission instituted this investigation on December 21, 2000, based on a complaint filed by Xilinx, Inc. of San Jose, CA. 65 FR 80454 (2000). The complaint named Altera Corp. of San Jose, CA as the only respondent. Id. The complaint, as supplemented, alleged violations of section 337 of the Tariff Act of 1930 in the importation into the United States, sale for importation, and sale within the United States after importation of certain field programmable gate arrays and products containing same by reason of infringement of claims 1-3 and 5 of U.S. Letters Patent 5,343,406; claims 1 and 3 U.S. Letters Patent 5,432,719 (“the '719 patent”); and claim 16 of U.S. Letters Patent 5,861,761. On July 11, 2001, the ALJ issued an ID (Order No. 6) amending the notice of investigation to add claim 2 of the '719 patent. 66 FR 39790 (2001). The Commission determined not to review that ID.

A tutorial was held on June 22, 2001, and an evidentiary hearing was held from June 25 through July 5, 2001.

On July 25, 2001, complainant Xilinx, Inc. and respondent Altera Corp. filed a joint motion to terminate the investigation by settlement. On July 31, 2001, the Commission investigative attorney filed a response supporting the joint motion. On October 2, 2001, the presiding ALJ issued an ID (Order No. 8) granting the joint motion. No party petitioned for review of the ID.

The authority for the Commission's determination is contained in section 337 of the Tariff Act of 1930, as amended (19 U.S.C. 1337), and in section 210.42 of the Commission's Rules of Practice and Procedure (19 CFR 210.42).

Issued: October 30, 2001.
By order of the Commission.
Donna R. Koehnke,
Secretary.

[FR Doc. 01-27635 Filed 11-2-01; 8:45 am]

BILLING CODE 7020-02-P